DEPARTMENT OF COMMERCE

National Oceanic and Atmospheric Administration

[RTID 0648-XB906]

South Atlantic Fishery Management Council; Public Meetings

AGENCY: National Marine Fisheries Service (NMFS), National Oceanic and Atmospheric Administration (NOAA), Commerce.

ACTION: Notice of a public meeting.

SUMMARY: The South Atlantic Fishery Management Council (Council) will hold a meeting of the Dolphin Wahoo Advisory Panel (AP) on April 20 and 21, 2022.

DATES: The Dolphin Wahoo AP meeting will be held April 20-21, 2022. The meeting will be held from 1:30 p.m. until 5 p.m. EDT on April 20th and from 9 a.m. until 12 p.m. EDT on April 21st.

ADDRESSES:

Meeting address: The meeting will be held at the Crowne Plaza Hotel, 4831 Tanger Outlet Blvd., N Charleston, SC 29418; phone: (883) 744-4422.

Council address: South Atlantic Fishery Management Council, 4055 Faber Place Drive, Suite 201, N Charleston, SC 29405.

The meeting will also be available via webinar. Registration is required. Webinar registration, an online public comment form, and briefing book materials will be available two weeks prior to the meeting at: https://safmc.net/safmc-meetings/current-advisory-panel-meetings/.

FOR FURTHER INFORMATION CONTACT: John Hadley, Fishery Management Plan Coordinator, SAFMC; phone: (843) 571-4366 or toll free: (866) SAFMC-10; fax: (843) 769-4520; email: john.hadley@safmc.net.

SUPPLEMENTARY INFORMATION: Agenda items for the Dolphin Wahoo AP meeting include: Review of recent and developing Council actions; review of draft Framework Amendment 2 to the Dolphin Wahoo Fishery Management Plan that would extend the applicable range of the minimum size limit, modify recreational retention limits, and reduce or remove captain and crew bag limits for dolphin; input on the potential need for regional management and other future management changes; and an update of the fishery performance report for dolphin. The AP will also receive updates on the Council's Citizen Science Program, the Climate Change Scenario Workgroup, and address other business. The AP will provide recommendations for Council consideration as appropriate.

Special Accommodations

The meeting is physically accessible to people with disabilities. Requests for auxiliary aids should be directed to the Council office (see ADDRESSES) 5 days prior to the meeting.

Note: The times and sequence specified in this agenda are subject to change.

Authority: 16 U.S.C. 1801 et seq.

Dated: March 31, 2022.
Tracey L. Thompson,
Acting Deputy Director, Office of Sustainable Fisheries, National Marine Fisheries Service.

[FR Doc. 2022-07120 Filed 4-4-22; 8:45 am]

BILLING CODE 3510-22-P